DEPARTMENT OF TRANSPORTATION

Surface Transportation Board

[STB Finance Docket No. 34117]

Pemiscot County Port Authority—Construction Exemption—Pemiscot County, MO

AGENCY: Surface Transportation Board, Transportation.

ACTION: Notice of availability of Environmental Assessment and request for comments.

SUMMARY: The Surface Transportation Board's (Board) Section of Environmental Analysis (SEA) has prepared an Environmental Assessment (EA) in response to a petition filed by the Pemiscot County Port Authority. The petition seeks an exemption under 49 U.S.C. 10502 from the prior approval requirements of 49 U.S.C. 10901 for authority to construct and operate a rail line between Hayti, Missouri and the Pemiscot Port. The EA identifies the natural and man-made resources in the area of the proposed rail line and analyzes the potential impacts of the rail line construction and operation on these resources. Based on the information provided from all sources to date and its independent analysis, SEA preliminarily concludes that construction and operation of the proposed rail line would have no significant environmental impacts if the Board imposes and the Pemiscot County Port Authority implements the recommended mitigation measures set forth in this EA. Copies of the EA have been served on all interested parties and will be made available to additional parties upon request. The entire EA is also available on the Board's Web site (http://www.stb.dot.gov) by clicking on the “Decisions” button and searching by service date (May 7, 2003) or Docket Number (FD 34117). SEA will consider all comments received when making its final environmental recommendations to the Board. The Board will then consider SEA's final recommendations and the complete environmental record in making its final decision in this proceeding.

DATES: The EA is available for public review and comment. Comments must be postmarked June 6, 2003.

ADDRESSES: Comments (an original and 10 copies) should be sent in writing to: Surface Transportation Board, Case Control Unit, 1925 K Street, NW., Washington, DC 20423. The lower left corner of the envelope should be marked: Attention: Mr. David Navecky, Environmental Comments, Finance Docket No. 34117.

FOR FURTHER INFORMATION CONTACT: David Navecky by mail at the address above, by telephone at (202) 565-1593 (FIRS for the hearing impaired (1-800-877-8339)), or by e-mail at naveckyd@stb.dot.gov.

By the Board, Victoria Rutson, Chief, Section of Environmental Analysis.
Vernon A. Williams,
Secretary.

[FR Doc. 03-11151 Filed 5-6-03; 8:45 am]

BILLING CODE 4910-00-P